Proclamation 8494 of April 8, 2010

National D.A.R.E. Day, 2010

By the President of the United States of America

A Proclamation

Every day, young Americans face pressures to engage in violent activities, drug use, and other harmful behavior. Today, we reaffirm our commitment to empowering our children to resist violence and substance abuse.

Drug dependence affects individuals from all backgrounds, and its debilitating effects often go unaddressed. Too many of our families are afflicted by addiction, and too many lives are ruined by its harmful impact. Drug abuse is not an isolated crime, and communities experience the tragic results when drug-related violence and gang activity reach our neighborhoods. It takes parents, guardians, educators, clergy, law enforcement officers, and other mentors to demonstrate that a healthy and drug-free lifestyle can build a strong foundation for future success.

Families must be vigilant in recognizing and addressing the warning signs of drug and alcohol abuse. From prescriptions and over-the-counter medications to chemical inhalants, many substances can be harmful if abused, and preventing our children from doing so is vital. I urge friends and loved ones to be role-models and to discuss the consequences of drug use with the young people in their lives.

Community-based prevention and treatment programs can provide young Americans with mentors and reinforce positive behavior. Through the Drug Abuse Resistance Education (D.A.R.E.) program, law enforcement personnel contribute their expertise to help teach America’s youth to resist peer pressure, and to abstain from drugs, gangs, and violence. We all have a responsibility to join these professionals in enabling youth to choose alternatives to violence and dangerous behavior and to lead the next generation of Americans toward a brighter future.

NOW, THEREFORE, I, BARACK OBAMA, President of the United States of America, by virtue of the authority vested in me by the Constitution and the laws of the United States, do hereby proclaim April 8, 2010, as National D.A.R.E. Day. I call upon all Americans to observe this day with appropriate programs and activities.

IN WITNESS WHEREOF, I have hereunto set my hand this eighth day of April, in the year of our Lord two thousand ten, and of the Independence of the United States of America the two hundred and thirty-fourth.

[FR Doc. 2010-8557

Filed 4-12-10; 8:45 am]

Billing code 3195-W0-P